DEPARTMENT OF HOMELAND SECURITY

Federal Emergency Management Agency

[Docket No. FEMA-2012-0003; Internal Agency Docket No. FEMA-B-1261]

Proposed Flood Hazard Determinations

AGENCY: Federal Emergency Management Agency; DHS.

ACTION: Notice; correction.

SUMMARY: On July 30, 2012, FEMA published in the Federal Register a proposed flood hazard determination notice at FR 77 44651 that contained a table which included a Web page address through which the Preliminary Flood Insurance Rate Map (FIRM), and where applicable, the Flood Insurance Study (FIS) report for the communities listed in the table could be accessed. The information available through the Web page address has subsequently been updated. The table provided here represents the proposed flood hazard determinations and communities affected for Mecklenburg County, North Carolina, and Incorporated Areas.

DATES: Comments are to be submitted on or before February 25, 2013.

ADDRESSES: The Preliminary FIRM, and where applicable, the FIS report for each community are available for inspection at both the online location and the respective Community Map Repository address listed in the table below. Additionally, the current effective FIRM and FIS report for each community are accessible online through the FEMA Map Service Center at www.msc.fema.gov for comparison.

You may submit comments, identified by Docket No. FEMA-B-1261, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064 or (email) Luis.Rodriguez3@fema.dhs.gov.

SUPPLEMENTARY INFORMATION: FEMA proposes to make flood hazard determinations for each community listed in the table below, in accordance with Section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own, or pursuant to policies established by other Federal, State, or regional entities. These flood hazard determinations are used to meet the floodplain management requirements of the NFIP and are also used to calculate the appropriate flood insurance premium rates for new buildings built after the FIRM and FIS report become effective.

The communities affected by the flood hazard determinations are provided in the table below. Any request for reconsideration of the revised flood hazard determinations shown on the Preliminary FIRM and FIS report that satisfies the data requirements outlined in 44 CFR 67.6(b) is considered an appeal. Comments unrelated to the flood hazard determinations will also be considered before the FIRM and FIS report are made final.

Use of a Scientific Resolution Panel (SRP) is available to communities in support of the appeal resolution process. SRPs are independent panels of experts in hydrology, hydraulics, and other pertinent sciences established to review conflicting scientific and technical data and provide recommendations for resolution. Use of the SRP may only be exercised after FEMA and local communities have been engaged in a collaborative consultation process for at least 60 days without a mutually acceptable resolution of an appeal. Additional information regarding the SRP process can be found online at http://www.floodsrp.org/pdfs/srp_fact_sheet.pdf.

Correction

In the proposed flood hazard determination notice published at 77 FR 44651 in the July 30, 2012, issue of the Federal Register, FEMA published a table titled “Mecklenburg County, North Carolina, and Incorporated Areas.” This table contained a Web page address through which the Preliminary FIRM, and where applicable, FIS report for the communities listed in the table could be accessed online. A Revised Preliminary FIRM and/or FIS report have subsequently been issued for some or all of the communities listed in the table. The information available through the web page address listed in the table has been updated to reflect the Revised Preliminary information and is to be used in lieu of the information previously available.

Community | Community Map Repository Address
Mecklenburg County, North Carolina, and Incorporated Areas
Maps Available for Inspection Online at: http://mapserver.mecklenburgcountync.gov/fmr/
City of Charlotte | City Hall, 600 East 4th Street, Charlotte, NC 28202.
Town of Matthews | Town Hall, 232 Matthews Station Street, Matthews, NC 28105.
Town of Mint Hill | Town Hall, 7151 Matthews-Mint Hill Road, Mint Hill, NC 28277.
Town of Pineville | Town Hall, 200 Dover Street, Pineville, NC 28134.
Unincorporated Areas of Mecklenburg County | Mecklenburg County Government Center, 600 East 4th Street, Charlotte, NC 28202.

Catalog of Federal Domestic Assistance No. 97.022, “Flood Insurance.”

Dated: October 31, 2012.
James A. Walke,
Acting Deputy Associate Administrator for Mitigation, Department of Homeland Security, Federal Emergency Management Agency.

[FR Doc. 2012-28623 Filed 11-23-12; 8:45 am]

BILLING CODE 9110-12-P